DEPARTMENT OF HEALTH AND HUMAN SERVICES

Centers for Disease Control and Prevention

[60Day-09-09CK]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Asthma Information Reporting System (AIRS)—New—Air Pollution and Respiratory Health Branch (APRHB), National Center for Environmental Health (NCEH, Centers for Disease Control and Prevention (CDC)).

Background and Brief Description

In 1999, the CDC began developing its National Asthma Control Program, a population-based, public health approach to addressing the burden of asthma. The program supports the goals and objectives of “Healthy People 2010” for asthma and is based on the public health principles of surveillance, partnerships, and interventions. This data collection request will provide NCEH with routine information, through a semi-annual Management Information System, AIRS, about the activities and performance of the state and territorial grantees funded under the National Asthma Control Program.

The primary purpose of the National Asthma Control Program is to develop program capacity to address asthma from a public health perspective to bring about: (1) A focus on asthma-related activity within states; (2) an increased understanding of asthma-related data and its application to program planning and evaluation through the development and maintenance of an ongoing asthma surveillance system; (3) an increased recognition, within the public health structure of states, of the potential to use a public health approach to reduce the burden of asthma; (4) linkages of state health agencies to other agencies and organizations addressing asthma in the population; and (5) implementation of interventions to achieve positive health impacts, such as reducing the number of deaths, hospitalizations, emergency department visits, school or work days missed, and limitations on activity due to asthma.

The proposed AIRS management information system will be comprised of multiple components that enable the electronic reporting of three types of data/information from state asthma control programs: (1) Information that is currently collected as part of interim (semi-annual) and end-of-year progress reporting, (2) Aggregate level reports of surveillance data on long-term program outcomes, and (3) Specific data indicative of progress made on: Partnerships, surveillance, interventions, and evaluation.

Currently, data is collected on an interim (semi-annual) basis from state asthma control programs as part of regular reporting of cooperative agreement activities. Programs report information such as progress to date on accomplishing intended objectives, programmatic changes, changes to staffing or management, and budgetary information. Regularly reporting this information is a requirement of the co-operative agreement mechanism utilized to fund state asthma control programs. Information in this section will be consistent with previous reporting by states through Grants.gov. States will be required to submit interim (semi-annual) and year-end progress report information into AIRS, thus this type of programmatic information on activities and objectives will be collected twice per year (interim report and end-of-year report).

The National Asthma Control Program at CDC has access to and analyzes national-level asthma surveillance data (http://www.cdc.gov/asthma/asthmadata.htm). With the exception of data from the Behavioral Risk Factor Surveillance System (BRFSS), analyses cannot be conducted at the level of the state. Therefore, as part of AIRS, state asthma control programs will be asked to submit aggregate surveillance data to allow calculation of state asthma surveillance indicators across all funded states (where data is available) in a standardized manner. Data likely to be requested through this system include: Hospital discharges (with asthma as first listed diagnosis), and emergency department visits (with asthma as first listed diagnosis). States will be required to submit this information into AIRS once per year, in conjunction with the end of year reporting of activities and objectives, described above.

National and state asthma surveillance data provide information useful to examining progress on long-term outcomes of state asthma programs. To identify appropriate indicators of program implementation and short-term outcomes, CDC convened and facilitated workgroups comprised of state asthma control program representatives over the course of two years. In collaboration with these workgroups, the CDC generated specific questions (qualitative and quantitative in nature) intended to collect data on key features of state asthma control programs: Partnerships, surveillance, interventions, and evaluation. States will be asked to provide answers to these questions once per year in conjunction with the end of year reporting of activities and objectives, described above. These data will be used to foster a continuous learning environment about what is working in state asthma programs and to identify potential areas for improvement.

There will be no cost for grantees to participate in AIRS.

Estimated Annualized Burden Hours
Type of respondents | Forms | Number of respondents | Number of responses per respondent | Average burden per response (in hours) | Total burden (in hours)
State Health Departments | Interim report on activities and objectives | 36 | 1 | 2 | 72
| End of year report on activities, objectives and aggregate surveillance | 36 | 1 | 6 | 216
Total |  | 36 | 2 | 8 | 288

Dated: September 3, 2009.
Maryam I. Daneshvar,
Acting Reports Clearance Officer, Centers for Disease Control and Prevention.

[FR Doc. E9-21913 Filed 9-10-09; 8:45 am]

BILLING CODE 4163-18-P